FEDERAL MARITIME COMMISSION

Sunshine Act Meeting

AGENCY: Federal Maritime Commission.

TIME AND DATE: December 10, 2014; 11:00 a.m.

PLACE: 800 N Capitol Street NW., First Floor Hearing Room, Washington, DC.

STATUS: The first portion of the meeting will be held in Open Session; the second in Closed Session.

MATTERS TO BE CONSIDERED:

Open Session

1. Briefing on European Maritime Law Organization's (EMLO) Conference.

2. Briefing on South Atlantic Port Forum held October 30th Concerning Causes and Implications of Congestion at U.S. Ports.

3. Briefing on Gulf Coast Port Forum held November 3rd Concerning Causes and Implications of Congestion at U.S. Ports.

Closed Session

1. Staff Briefing Concerning International Affairs.

CONTACT PERSON FOR MORE INFORMATION: Karen V. Gregory, Secretary, (202) 523 5725.

Karen V. Gregory,
Secretary.

[FR Doc. 2014-28726 Filed 12-3-14; 4:15 pm]

BILLING CODE 6730-01-P